DEPARTMENT OF THE INTERIOR

Fish and Wildlife Service

[FWS-R8-ES-2019-N012; FXES11120800000-190-FF08E00000]

Sierra Pacific Industries Proposed Draft Habitat Conservation Plan for Northern and California Spotted Owl and Draft Environmental Impact Statement; Klamath, Cascade, and Sierra Nevada Mountains, CA

AGENCY: Fish and Wildlife Service, Interior.

ACTION: Notice of availability; request for comments.

SUMMARY: Sierra Pacific Industries of Anderson, California (applicant), has applied to the U.S. Fish and Wildlife Service (Service) for an incidental take permit under the Endangered Species Act (ESA). We advise the public of the availability of a proposed habitat conservation plan (HCP), which covers the northern spotted owl and California spotted owl, and the draft environmental impact statement (DEIS), for public review and comment. The HCP covers forest management, species management, and monitoring activities on commercial timberland in Amador, Butte, Calaveras, El Dorado, Humboldt, Lassen, Modoc, Nevada, Placer, Plumas, Shasta, Sierra, Siskiyou, Tehama, Trinity, Tuolumne, and Yuba Counties, California.

DATES:

Public Comments: We will receive public comments on the HCP and DEIS until July 1, 2019. Comments received or postmarked after this date will be considered to the extent practicable.

Meetings: We will conduct two public meetings. The meetings will provide the public an opportunity to ask questions, discuss issues with the Service regarding the DEIS, and provide written comments.

• May 28, 2019—Hilltop Holiday Inn—Buckskin Room, 1900 Hilltop Drive, Redding, California, 5:30 to 7:30 p.m.

• May 29, 2019—Bonderson Building—Hearing Room, 901 P Street, Sacramento, California, 1:30 to 3:30 p.m.

We are committed to providing access to these meetings for all participants. Please direct all requests for sign language interpreting services, closed captioning, or other accommodation needs to Kim Turner, TTY 800-877-8339, by close of business on May 14, 2019. See FOR FURTHER INFORMATION CONTACT.

Online Webinar: In addition, the Service will host a webinar on May 29, 2019, from 5:30 to 6:30 p.m. Pacific Standard Time. For information on how to participate, go to https://register.gotowebinar.com/register/8567916169912061185.

ADDRESSES:

Obtaining Documents: You may obtain the documents by the following methods.

• Internet: https://www.fws.gov/sacramento/.

• Public libraries: Electronic copies of the documents will be available for viewing at Sacramento and Shasta County Libraries on their public access computer stations. In Sacramento County, the documents will be available at the Sacramento Central Library, 828 I St., Sacramento, CA. In Shasta County, the documents will be available at the Redding branch library, 1100 Parkview Ave., Redding, CA.

Submitting Comments: You may submit comments by one of the following methods. Please include your contact information.

• Email: SierraPacificIndustriesEISHCP@fws.gov.

• U.S. mail or hand-delivery: Kim S. Turner, Deputy Assistant Field Supervisor, U.S. Fish and Wildlife Service, Sacramento Fish and Wildlife Office, 2800 Cottage Way, Suite 2605, Sacramento, CA 95825.

• Fax: 916-414-6713.

FOR FURTHER INFORMATION CONTACT: Kim S. Turner, Deputy Assistant Field Supervisor, by phone at 916-414-6600; via the Federal Information Relay Service at 800-877-8339; or via U.S. mail to U.S. Fish and Wildlife Service, 2800 Cottage Way, Suite 2605, Sacramento, CA 95825.

SUPPLEMENTARY INFORMATION: Sierra Pacific Industries of Anderson, California (applicant), has applied to the U.S. Fish and Wildlife Service (Service) for the issuance of an incidental take permit under section 10(a)(1)(B) of the Endangered Species Act, as amended (ESA; 16 U.S.C. 1531 et seq.). The applicant is requesting a permit for incidental take of two animal subspecies that may result from covered activities during the proposed 50-year permit. As part of its application for incidental take, the applicant has prepared a habitat conservation plan (HCP), which outlines proposed conservation measures. The applicant's proposed HCP area encompasses 1,566,151 acres of commercial timberland in Amador, Butte, Calaveras, El Dorado, Humboldt, Lassen, Modoc, Nevada, Placer, Plumas, Shasta, Sierra, Siskiyou, Tehama, Trinity, Tuolumne, and Yuba Counties, California.

Pursuant to the National Environmental Policy Act (NEPA; 42 U.S.C. 4321 et seq.), we advise the public of the availability of our draft environmental impact statement (DEIS), which analyzes several land management alternatives related to the Service's decision whether to issue an incidental take permit in response to the SPI application. Through this notice, we also inform the public of the availability of the proposed HCP.

Background

Section 9 of the ESA and Federal regulations prohibit the “take” of fish and wildlife species federally listed as endangered or threatened. Take of federally listed fish or wildlife is defined under the ESA as to harass, harm, pursue, hunt, shoot, wound, kill, trap, capture, or collect listed species, or attempt to engage in such conduct (16 U.S.C. 1538). “Harm” includes significant habitat modification or degradation that actually kills or injures listed wildlife by significantly impairing essential behavioral patterns, including breeding, feeding, and sheltering (50 CFR 17.3). Under limited circumstances, we may issue permits to authorize incidental take that is incidental to and not the purpose of, otherwise lawful activities.

The proposed incidental take permit would cover two bird subspecies, the northern spotted owl (Strix occidentalis caurina), which is federally listed as threatened, and the California spotted owl (Strix occidentalis occidentalis), which is not federally listed but is currently under a status review.

The HCP proposes conservation measures considered necessary to minimize and mitigate the impacts, to the maximum extent practicable, of the potential taking of federally listed species to be covered by the HCP. SPI is seeking incidental take coverage for the covered activities under the HCP associated with commercial forest management within the plan area.

Request for Public Comments

Because the conservation strategy outlined in the HCP includes proposed new approaches to spotted owl conservation and areas of uncertainty, we are particularly interested in receiving public comments on Conservation Measures 1, 2, and 3 (HCP 5.2.1, 5.2.2, and 5.2.3; DEIS HCP Alternative); potential impacts to NSO and CSO (HCP 5.4.5; DEIS HCP Alternative); and monitoring and adaptive management (HCP Chapter 6, DEIS HCP Alternative).

National Environmental Policy Act Compliance

The DEIS analyzes three land management alternatives. These include a “no action” alternative, under which the current management practices would be assumed to continue as guided by the 2018 California Forest Practice Rules. The proposed action consists of a two-subspecies HCP and associated permit with a 50-year term. One other “action” alternative is included. The Northwest Forest Plan (NWFP)/Sierra Nevada Forest Plan (SNFPA) Alternative (NWFP/SNFPA Alternative) proposes the development of a different two-subspecies HCP that would manage known and suspected nest stands according to the NWFP within the range of the NSO and the SNFPA within the range of the CSO.

Public Review

Any comments we receive will become part of the decision record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22), and NEPA (42 U.S.C. 4321 et seq.) and NEPA implementing regulations (40 CFR 1506.6).

Michael Fris,
Assistant Regional Director, Pacific Southwest Region, Sacramento, California.

[FR Doc. 2019-08933 Filed 5-1-19; 8:45 am]

BILLING CODE 4333-15-P